DEPARTMENT OF ENERGY

Federal Energy Regulatory Commission

[Docket No. RP00-430-000]

Norteño Pipeline Company; Notice of Petition for Waiver of Orders No. 637 and 637-A

August 9, 2000.

Take notice that on August 3, 2000, Norteño Pipeline Company (Norteño), 504 Lavaca Street, Austin, Texas 78701, filed in Docket No. RP00-430-000 a Petition for Waiver of Orders No. 637 and 637-A and Request for Expedited Consideration. Norteño submits that its small size and limited customer base, along with a pending abandonment application for certain of its facilities, make compliance with these Orders prohibitively expensive and unnecessary. Moreover, Norteño states that no customer has asked for seasonal rates, capacity segmentation or revised scheduling procedures.

Any person desiring to be heard or to protest said filing should file a motion to intervene or a protest with the Federal Energy Regulatory Commission, 888 First Street, NE., Washington, D.C. 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20626 Filed 8-14-00; 8:45 am]

BILLING CODE 6717-01-M